DEPARTMENT OF DEFENSE

Department of the Air Force

32 CFR Part 989

Environmental Impact Analysis Process (EIAP); Correction

AGENCY: Department of the Air Force, DoD.

ACTION: Final rule; correction.

SUMMARY: The Department of the Air Force published in the Federal Register of March 28, 2001, a document concerning correcting amendments. This document corrects the inadvertent change to correcting amendment 17.

DATES: Effective on May 15, 2001.

FOR FURTHER INFORMATION CONTACT: Mr. Jack Bush (HQ USAF/ILEB), 1260 Air Force Pentagon, Washington, DC 20330-1260, (703) 604-0553.

SUPPLEMENTARY INFORMATION: In FR Doc. 01-7671 published on March 28, 2001 (66 FR 16868) make the following correction. On page 16868, correcting amendment 17, § 989.18, paragraph (a), third to last sentence correct “AF/ILEV” to read “USAF/ILEV.”

Dated: May 10, 2001.
Janet A. Long,
Air Force Federal Register Liaison Officer.

[FR Doc. 01-12200 Filed 5-14-01; 8:45 am]

BILLING CODE 5001-05-P